DEPARTMENT OF TRANSPORTATION

Federal Aviation Administration

14 CFR Part 39

[Docket No. FAA-2018-0688; Product Identifier 2018-CE-026-AD; Amendment 39-19338; AD 2018-15-06]

RIN 2120-AA64

Airworthiness Directives; Honda Aircraft Company LLC Airplanes

AGENCY: Federal Aviation Administration (FAA), DOT.

ACTION: Final rule; request for comments.

SUMMARY: We are adopting a new airworthiness directive (AD) for certain Honda Aircraft Company LLC Model HA-420 airplanes. This AD requires incorporating new and revised airworthiness limitations into the airplane's maintenance program. This AD was prompted by a report that several maintenance tasks were omitted from the airworthiness limitations section of the Honda Aircraft Company, Inc. Model HA-420 Airworthiness Limitation and Inspection Manual (ALIM). We are issuing this AD to address the unsafe condition on these products.

DATES: This AD is effective August 13, 2018.

The Director of the Federal Register approved the incorporation by reference of a certain publication listed in this AD as of August 13, 2018.

We must receive comments on this AD by September 21, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this final rule, contact Honda Aircraft Company LLC, 6430 Ballinger Road, Greensboro, North Carolina 27410; telephone (336) 662-0246; internet: http://www.hondajet.com. You may view this service information at the FAA, Policy and Innovation Division, 901 Locust, Kansas City, Missouri 64106. For information on the availability of this material at the FAA, call (816) 329-4148. It is also available on the internet at http://www.regulations.gov by searching for and locating Docket No. FAA-2018-0688.

Examining the AD Docket

You may examine the AD docket on the internet at http://www.regulations.gov by searching for and locating Docket No. FAA-2018-0688; or in person at Docket Operations between 9 a.m. and 5 p.m., Monday through Friday, except Federal holidays. The AD docket contains this final rule, the regulatory evaluation, any comments received, and other information. The street address for the Docket Operations (phone: 800-647-5527) is listed above. Comments will be available in the AD docket shortly after receipt.

FOR FURTHER INFORMATION CONTACT: Samuel Kovitch, Aerospace Engineer, Atlanta ACO Branch, FAA, 1701 Columbia Avenue, College Park, Georgia 30337; phone: (404) 474-5570; fax: (404) 474-5605; email: samuel.kovitch@faa.gov.

SUPPLEMENTARY INFORMATION:

Discussion

Honda Aircraft Company LLC has informed us that several required maintenance tasks driven by system safety assessment requirements were inadvertently omitted from or listed incorrectly in the airworthiness limitations section of the Honda Aircraft Company, Inc. Model HA-420 ALIM with a revision level prior to Revision C1 and dated earlier than May 1, 2018. Additional airworthiness limitations, additional maintenance tasks for various systems, and reduced compliance times for existing maintenance tasks are necessary to maintain all airplanes in a condition for safe operation.

In addition, we determined that some airplanes may have exceeded the new maintenance intervals once the ALIM was revised, including but not limited to:

1. Latent failure mode of the Wing Anti-Ice Crossflow Valve (WAIXV): This condition would prevent the opening of the WAIXV when commanded and could result in loss of control of the airplane if one bleed air source becomes unavailable while operating in icing conditions. An existing ice protection system check would identify this condition; however, the system check was not located in the airworthiness limitations section of the ALIM. The revised ALIM relocates the system check to the airworthiness limitations section and reduces the system check intervals from 600 hours time-in-service (TIS) to 300 hours TIS.

2. Latent failures in the brake and emergency accumulators: The hydraulic power system check for identifying and correcting potential latent failures in the brake and emergency accumulators contained incorrect procedures and was not located in the airworthiness limitations section of the ALIM. Honda corrected these procedures and superseded the current procedures (−801) with the new procedures (−802). The revised ALIM lists the correct procedures for the hydraulic power system check and relocates this check to the airworthiness limitations section.

These conditions, if not addressed, could result in failures in various airplane systems, including but not limited to the hydraulic and ice protection systems, which could result in loss of control of the airplane.

Related Service Information Under 1 CFR Part 51

We reviewed Honda Aircraft Company HA-420 Airworthiness Limitation and Inspection Manual “Airworthiness Limitations—Inspection/Check” (Airworthiness Limitations section 05-60-00), dated May 1, 2018. The service information contains airworthiness limitations, additional maintenance tasks for various systems, and reduced compliance times for existing maintenance tasks, including but not limited to the hydraulic and ice protection systems. This service information is reasonably available because the interested parties have access to it through their normal course of business or by the means identified in the ADDRESSES section.

FAA's Determination

We are issuing this AD because we evaluated all the relevant information and determined the unsafe condition described previously is likely to exist or develop in other products of the same type design.

AD Requirements

This AD requires revising the airworthiness limitations section of the maintenance program by replacing Airworthiness Limitations section 05-60-00 with an issue date earlier than May 1, 2018, with the revised Airworthiness Limitations section 05-60-00, dated May 1, 2018. Incorporating these airworthiness limitations makes them mandatory (reference 14 CFR 43.16 and 14 CFR 91.403(c)). For airplanes that have exceeded the new maintenance intervals, compliance with replacement times or inspection intervals is required before further flight once the limitations are incorporated. Operators have the compliance time period of the AD to plan for any immediate maintenance action required by the new limitations. This includes, but is not limited to the following:

• The 600-hour TIS ice protection system check, AMM Task Reference 30-10-01-700-801, previously located in the Scheduled Inspections section 05-20-00, has been relocated to the Airworthiness Limitations section 05-60-00, and reduced to a 300-hour TIS interval. Airplanes that have exceeded 300 hours TIS since the ice protection system check was last performed must have the ice protection system check within the compliance time specified in paragraph (f) of the AD. This AD allows a credit for airplanes that had the system check at the previous 600-hour TIS interval but have not exceeded 300 hours TIS since the last check and the WAIXV passed the functionality check contained in the procedure.

• The 600-hour TIS hydraulic power system check, AMM Task Reference 29-00-01-700-801, previously located in the Scheduled Inspections section 05-20-00, has been relocated to the Airworthiness Limitations section 05-60-00, and revised to AMM Task Reference 29-00-01-700-802. Airplanes that had the system check per the previous incorrect version of the maintenance task (29-00-01-700-801) at 600 hours TIS must have the inspection done before further flight after incorporating the airworthiness limitations.

FAA's Justification and Determination of the Effective Date

An unsafe condition exists that requires the immediate adoption of this AD without providing an opportunity for public comments prior to adoption. The FAA has found that the risk to the flying public justifies waiving notice and comment prior to adoption of this rule because exceeding certain maintenance intervals and/or limitations could cause failures in various airplane systems, including but not limited to the hydraulic and ice protection systems, which could result in loss of control. Therefore, we find good cause that notice and opportunity for prior public comment are impracticable. In addition, for the reasons stated above, we find that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0688 and Product Identifier 2018-CE-026-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 96 airplanes of U.S. registry.

We estimate the following costs to comply with this AD:

Estimated Costs
Action | Labor cost | Parts cost | Cost per product | Cost on U.S. operators
Incorporate the revised Airworthiness Limitations section 05-60-00 into the ALIM | 1 work-hour × $85 per hour = $85 | Not applicable | $85 | $8,160

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-15-06 Honda Aircraft Company LLC: Amendment 39-19338; Docket No. FAA-2018-0688; Product Identifier 2018-CE-026-AD.

(a) Effective Date

This AD is effective August 13, 2018.

(b) Affected ADs

None.

(c) Applicability

This AD applies to Honda Aircraft Company LLC Model HA-420 airplanes with a serial number in the range of 42000011 through 42000112, certificated in any category.

(d) Subject

Joint Aircraft System Component (JASC)/Air Transport Association (ATA) of America Code 05, Time Limits.

(e) Unsafe Condition

This AD was prompted by a report that several required maintenance tasks were omitted from “Airworthiness Limitations—Inspection/Check” (Airworthiness Limitations section 05-60-00), of the Honda Aircraft Company HA-420 Airworthiness Limitation and Inspection Manual (ALIM), with a revision level prior to C1 and dated earlier than May 1, 2018. We are issuing this AD to prevent failures in various airplane systems, including but not limited to the hydraulic and ice protection systems, which could result in loss of control of the airplane.

(f) Compliance

Comply with the action of this AD within 30 days after August 13, 2018 (the effective date of this AD) or within 15 hours time-in-service (TIS) after August 13, 2018 (the effective date of this AD), whichever occurs first, unless already done. The airworthiness limitations section revision required in paragraph (g) of this AD contains new and reduced inspection intervals. Once you comply with paragraph (g) of this AD, if the hours TIS of your airplane exceed the threshold of any new limitation, you are required to comply with the replacement times or inspection intervals before further flight. This includes, but is not limited to, the following revised inspections:

(1) The 600-hour TIS interval ice protection system check, AMM Task Reference 30-10-01-700-801, previously located in the Scheduled Inspections section 05-20-00, has been relocated to the Airworthiness Limitations section 05-60-00, and reduced to a 300-hour TIS interval.

(2) The 600-hour TIS interval hydraulic power system check (AMM Task Reference 29-00-01-700-801), previously located in the Scheduled Inspections section 05-20-00, has been relocated to the Airworthiness Limitations section 05-60-00 and revised to AMM Task Reference 29-00-01-700-802.

(g) Airworthiness Limitations Revision

Revise the airworthiness limitations section of the maintenance program by replacing Airworthiness Limitations section 05-60-00 with an issue date earlier than May 1, 2018, with Airworthiness Limitations section 05-60-00, “Airworthiness Limitation—Inspection/Check,” dated May 1, 2018. Incorporating these airworthiness limitations makes them mandatory (reference 14 CFR 43.16 and 14 CFR 91.403(c)).

Note 1 to paragraph (g) of this AD: Airworthiness Limitations section 05-60-00 is contained in the Honda Aircraft Company, Inc. Model HA-420 ALIM.

(h) No Alternative Actions or Intervals

After revising the airworthiness limitations section as required by paragraph (g) of this AD, no alternative replacement times or inspection intervals may be approved unless the actions and/or intervals are approved as an alternative method of compliance in accordance with the procedures specified in paragraph (k)(1) of this AD.

(i) Credit for Previous Actions

Actions accomplished before the effective date of this AD in accordance with the 600-hour TIS ice protection system check, AMM Task Reference 30-10-01-700-801 located in the Scheduled Inspections section 05-20-00, is considered acceptable for compliance with the 300-hour TIS interval ice protection system check, AMM Task Reference 30-10-01-700-801 located in the Airworthiness Limitations section 05-60-00, dated May 1, 2018, if:

(1) The wing anti-ice crossflow valve (WAIXV) passed the functionality check contained in the procedure; and

(2) The airplane has not exceeded 300 hours TIS since the ice protection check was last performed.

(j) Special Flight Permit

Special flight permits are prohibited.

(k) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l) of this AD.

(2) Before using any approved AMOC, notify your appropriate principal inspector, or lacking a principal inspector, the manager of the local flight standards district office/certificate holding district office.

(l) Related Information

For more information about this AD, contact Samuel Kovitch, Aerospace Engineer, Atlanta ACO Branch, FAA, 1701 Columbia Avenue, College Park, Georgia 30337; phone: (404) 474-5570; fax: (404) 474-5605; email: samuel.kovitch@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Honda Aircraft Company, Inc. Model HA-420 Airworthiness Limitation and Inspection Manual “Airworthiness Limitations—Inspection/Check,” (Airworthiness Limitations section (05-60-00)), dated May 1, 2018.

(ii) Reserved.

(3) For Honda Aircraft Company LLC service information identified in this AD, contact Honda Aircraft Company LLC, 6430 Ballinger Road, Greensboro, North Carolina 27410; telephone (336) 662-0246; internet: http://www.hondajet.com.

(4) You may view this service information at the FAA, Policy and Innovation Division, 901 Locust, Kansas City, Missouri 64106. For information on the availability of this material at the FAA, call (816) 329-4148.

(5) You may view the service information that is incorporated by reference at the National Archives and Records Administration (NARA). For information on the availability of this material at NARA, call 202-741-6030, or go to: http://www.archives.gov/federal-register/cfr/ibr-locations.html.

Issued in Kansas City, Missouri, on July 19, 2018.
Pat Mullen,
Aircraft Certification Service, Acting Deputy Director, Policy and Innovation Division, AIR-601.

[FR Doc. 2018-15978 Filed 8-6-18; 8:45 am]

BILLING CODE 4910-13-P